DEPARTMENT OF AGRICULTURE

Forest Service

Siskiyou County Resource Advisory Committee

AGENCY: Forest Service, USDA.

ACTION: Notice of meeting.

SUMMARY: The Siskiyou County Resource Advisory Committee will meet in Yreka, California, October 21, 2002. The purpose of the meeting is to receive a presentation by the Backcountry Horsemen, refine the proposal receipt and review process, and develop a RAC outreach strategy.

DATES: The meeting will be held October 21, 2002 from 4 p.m. until 7 p.m.

ADDRESSES: The meeting will be held at the Yreka High School Library, Preece Way, Yreka, California.

FOR FURTHER INFORMATION CONTACT: Don Hall, RAC Coordinator, Klamath National Forest, (530) 841-4468 or electronically at donaldhall@fs.fed.us.

SUPPLEMENTARY INFORMATION: The meeting is open the public. Public comment opportunity will be provided and individuals will have the opportunity to address the Committee at that time.

Dated: September 23, 2002.
Margaret J. Boland,
Designated Federal Official.

[FR Doc. 02-24709 Filed 9-27-02; 8:45 am]

BILLING CODE 3410-11-M